ENVIRONMENTAL PROTECTION AGENCY

[FRL-7384-9]

Office of Environmental Justice Small Grants Program—Application Guidance FY 2003

AGENCY: Environmental Protection Agency (EPA).

ACTION: Notice.

SUMMARY: This guidance outlines the purpose, goals, and general procedures for application and award under the Fiscal Year (FY) 2003 (October 1, 2002-September 30, 2003) Environmental Justice Small Grants Program. For FY 2003, the EPA will make available approximately $1,500,000 in grant funds to eligible organizations (pending availability of funds); $1,000,000 of this amount is available for Superfund projects only.

DATES: The application must be delivered by close of business Wednesday, December 18, 2002 to your appropriate EPA regional office (listed in section III) or postmarked by the U. S. Postal Service midnight Wednesday, December 18, 2002.

ADDRESSES: For specific application delivery please contact the appropriate EPA regional office listed in section III.

FOR FURTHER INFORMATION CONTACT: Sheila Lewis, Senior Program Analyst, EPA Office of Environmental Justice, (202) 564-0152.

SUPPLEMENTARY INFORMATION: This guidance includes the following:

I. Scope and Purpose of the Environmental Justice Small Grants Program

II. Eligible Applicants and Activities

III. Application Requirements

IV. Process for Awarding Grants

V. Expected Time-frame for Reviewing and Awarding Grants

VI. Project Period and Final Reports

VII. Fiscal Year 2004 Environmental Justice Small Grants Program

Translations Available

The Spanish translation of this application is found at the back of the published document and on the Web page http://www.epa.gov/compliance/environmentaljustice/grants/. Please note the forms are translated into Spanish but must be completed in English.

I. Scope and Purpose of the OEJ Small Grants Program

The purpose of this grant program is to provide financial assistance to eligible community groups (i.e., community-based/grassroots organizations, churches ¹, or other nonprofit organizations with a focus on community-based issues) and federally recognized tribal governments that are working on or plan to carry out projects to address environmental justice issues. Preference for awards will be given to community-based/grassroots organizations that are working on local solutions to local environmental problems. Funds can be used to develop a new activity or substantially improve the quality of existing programs that have a direct impact on affected communities. All awards will be made in the form of a grant not to exceed one year.

¹ Churches that qualify as nonprofit organizations may use EPA grant funds only for environmental justice projects EPA grant funds may not be used to advance religious point of views.

Background

In its 1992 report, “Environmental Equity: Reducing Risk for All Communities,” the EPA found that minority and/or low-income populations may experience higher than average exposure to toxic pollutants than the general population. The EPA established the Office of Environmental Justice (OEJ) in 1992 to help these communities identify and assess pollution sources, to implement environmental awareness and training programs for affected residents, and to work with community stakeholders to devise strategies for environmental improvements.

In June 1993, OEJ was delegated granting authority to solicit, select, supervise, and evaluate environmental justice-related projects, and to disseminate information on the projects' content and effectiveness. FY 1994 marked the first year of the OEJ Small Grants Program. The chart below shows how the grant monies have been distributed since FY 1994.

Fiscal year | $ Amount | Number of awards
1994 | 500,000 | 71
1995 | 3,000,000 | 175
1996 | 2,800,000 | 152
1997 | 2,700,000 | 139
1998 | 2,500,000 | 123
1999 | 1,455,000 | 95
2000 | 899,000 | 61
2001 | 1,300,000 | 88
2002 | 1,113,000 | 73

How Does EPA Define Environmental Justice Under the Environmental Justice Small Grants Program?

Environmental justice is the fair treatment and meaningful involvement of all people regardless of race, color, national origin, culture, education, or income with respect to the development, implementation, and enforcement of environmental laws, regulations, and policies. Fair treatment means that no one group of people, including racial, ethnic, or socioeconomic groups, should bear a disproportionate share of the negative environmental consequences resulting from industrial, municipal, and commercial operations or the execution of federal, state, local, and tribal environmental programs and policies. Meaningful involvement means that: (1) Potentially affected community residents have an appropriate opportunity to participate in decisions about a proposed activity that will affect their environment and/or health; (2) the public's contribution can influence the regulatory agency's decision; (3) the concerns of all participants involved will be considered in the decision-making process; and (4) the decision-makers seek out and facilitate the involvement of those potentially affected.

II. Eligible Applicants and Activities

A. Who May Submit Applications and May Applicants Submit More Than One?

Any affected, non-profit community organization ² or federally recognized tribal government may submit an application upon publication of this solicitation. Applicants must be non-profit to receive these federal funds. State-recognized tribes or indigenous peoples' organizations can apply for grant assistance if they meet the definition of a nonprofit organization. “Non-profit organization” means any corporation, trust, association, cooperative, or other organization that: (1) Is operated primarily for scientific, educational, service, charitable, or similar purposes in the public interest; (2) is not organized primarily for profit; and (3) uses its net proceeds to maintain, improve, and/or expand its operations. Non-profit status may be demonstrated through designation by the Internal Revenue Service as a 501(c) organization or evidence that a state recognizes the organization's non-profit status. While state and local governments and academic institutions are eligible to receive grants, preference will be given to non-profit, community-based/grassroots organizations and federally recognized tribal governments. Preference may be given to those organizations that have not received previous grants under the Environmental Justice Small Grants Program. Individuals are not eligible to receive grants.

² As a result of the Lobbying Disclosure Act of 1995, EPA (and other federal agencies) may not award grants to non-profit organizations that are classified as 26 U.S.C. 501(c)(4) organizations by the Internal Revenue Service and engage in lobbying activities.

The Environmental Justice Small Grants Program is a competitive process. In order to ensure a fair evaluation process, the Agency will offer training and/or conference calls on grant application guidelines. We encourage you to participate so that you can have your questions answered in a public forum. Call your Regional office to inquire about the scheduled dates of the special training and conference calls. (See Contact List on pages 9-11)

The EPA will consider only one application per applicant for a given project. Applicants may submit more than one application if the applications are for separate and distinct projects or activities. Applicants that previously received small grant funds may submit an application for FY 2003 funds (October 1, 2002-September 30, 2003). Every application for FY 2003 is evaluated based on the merit of the proposed project in comparison to other FY 2003 applications. Past performance will be considered during the ranking and evaluation process for those applicants who have received previous grants.

B. What Types of Projects Are Eligible for Funding?

While there are many applications submitted from community groups for equally worthwhile projects, the EPA is emphasizing the availability of funds for research projects. Projects which are research-oriented and specific to hazardous substances are considered for funding under the Comprehensive Environmental Response, Compensation and Liability Act (CERCLA). The OEJ Small Grants Program also awards grants on a multi-media basis. Multimedia projects address pollution in more than one environmental medium (e.g., air, water, etc.).

To be considered for funding, the application must meet the criteria of two statutes under Item 1 or the single statute under Item 2 below:

1. Multi-Media Requirements (Use Two)

Recipients of these funds must implement projects that address pollution in more than one environmental medium (e.g., air, water). To show evidence of the breadth of the project's scope, the application must identify at least two environmental statutes that the project will address. To be eligible for funding, your project must include activities outlined in the following environmental statutes:

A. Statutes. (1) Clean Water Act, Section 104(b)(3): Conduct and promote the coordination of research, investigations, experiments, training, demonstration, surveys, and studies relating to the causes, extent, prevention, reduction, and elimination of water pollution.

(2) Safe Drinking Water Act, Section 1442(c)(3)(A): Develop, expand, or carry out a program (that may combine training, education, and employment) for occupations relating to the public health aspects of providing safe drinking water.

(3) Solid Waste Disposal Act, Section 8001(a): Conduct and promote the coordination of research, investigations, experiments, training, demonstrations, surveys, public education programs, and studies relating to solid waste (e.g., health and welfare effects of exposure to materials present in solid waste and methods to eliminate such effects).

(4) Clean Air Act, Section 103(b)(3): Conduct research, investigations, experiments, demonstrations, surveys, and studies related to the causes, effects (including health and welfare effects), extent, prevention, and control of air pollution.

(5) Toxic Substances Control Act, Section 10(a): Conduct research, development, monitoring, public education, training, demonstrations, and studies on toxic substances

(6) Federal Insecticide, Fungicide, and Rodenticide Act, Section 20(a): Conduct research, development, monitoring, public education, training, demonstrations, and studies on pesticides.

(7) Marine Protection, Research, and Sanctuaries Act, Section 203: Conduct research, investigations, experiments, training, demonstrations, surveys, and studies relating to the minimizing or ending of ocean dumping of hazardous materials and the development of alternatives to ocean dumping.

(8) Noise Control Act of 1972, Section 14 (b): Conduct research on the effects, measurement, and control of noise.

B. Goals for multi-media projects. In addition to the requirements outlined above, the application must also include a description of how an applicant plans to meet at least two of the three program goals listed below. See section III “Application Requirements” for more details.

(1) Identify necessary improvements in communication and coordination among all stakeholders, including existing community-based/grassroots organizations and local, state, tribal, and federal environmental programs. Facilitate communication and information exchange, and create partnerships among stakeholders to address disproportionate, high and adverse environmental exposure (e.g., workshops, awareness conferences, establishment of community stakeholder committees);

(2) Build community capacity to identify local environmental justice problems and involve the community in the design and implementation of activities to address these concerns. Enhance critical thinking, problem-solving, and active participation of affected communities. (e.g., train-the-trainer programs).

(3) Enhance community understanding of environmental and public health information systems and generate information on pollution in the community. If appropriate, seek technical experts to demonstrate how to access and interpret public environmental data (e.g., Geographic Information Systems (GIS), Toxic Release Inventories (TRI) and other databases).

2. Requirements for Research Grants Funded Under CERCLA

Recipients of these funds must implement projects that are specifically research oriented and specific to hazardous substances. The EPA's grant regulations define “research” as “systematic study directed toward fuller scientific knowledge or understanding of the subject studied,” 40 CFR 30.2(dd). The EPA has interpreted “research” to include studies that extend to socioeconomic, institutional, and public policy issues as well as the “natural” sciences. Your research project Must meet the following criteria:

A. Eligibility. (1) CERCLA section 311(c) authorizes EPA to fund research grants. Research must relate to the detection, assessment, and evaluation of the effects on and risks to human health from hazardous substances and the detection of hazardous substances in the environment.

(2) Applicants must demonstrate that the research project relates to “hazardous substances” as that term is defined by CERCLA section 101(14). There is a list of hazardous substances at 40 CFR 302.4 which, while not exclusive, does provide useful guidance.

(3) Research funded under CERCLA section 311(c) cannot relate to contamination from petroleum products in accordance with the definition of hazardous substances found at CERCLA section 101(14). Projects that involve petroleum contamination that is “mixed” with other contaminants may be considered on a case by case basis.

(4) The project must be of a research nature only, i.e., survey, research, collecting and analyzing data which will be used to expand scientific knowledge or understanding of the subject studied. Research projects, however, need not be limited to academic studies. Projects which expand the scientific knowledge or understanding, of a community, about hazardous substances issues, that effect their community, can be funded.

(5) The project cannot carry out training activities, other than training in research techniques. In other words CERCLA section 311(c) research projects cannot be designed as outreach, technical assistance, or public education activities.

(6) The project can include conferences only if the purpose of the conference is to present research results or to gather research data.

B. Goal for Research Projects. In addition to the special research requirements for grants under CERCLA outlined above, the application must include a description of how the research projects can serve as models for other communities when confronted with similar problems. See section III “Application Requirements” for more details.

Please note: (1) If your project includes scientific research and/or data collection, you must be prepared to submit a Quality Assurance Plan (QAP) to your EPA Project Officer prior to the beginning of the research. Multi-media projects may also require a Quality Assurance Plan.

(2) CERCLA grants are limited to research as required under CERCLA section 311(c). Do not propose projects which include activities under the “multi-media” authorities described in section 1, above, to carry out a research project.

The issues discussed above may be defined differently among applicants from various geographic regions, including areas outside the continental U.S. (Alaska, American Samoa, Guam, Hawaii, Puerto Rico, and the U.S. Virgin Islands). Each application should define its issues as they relate to the specific project. The narrative/work plan must include a succinct explanation of how the project may serve as a model in other settings and how it addresses a high-priority environmental justice issue. The degree to which a project addresses a high-priority environmental justice issue will vary and is defined by applicants according to their local environmental justice concerns.

C. How Much Money May Be Requested, and Are Matching Funds Required?

The ceilings in federal funds for individual grants are $15,000 for Multi-Media projects and $20,000 for Research projects. Applicants are not required to provide matching funds.

D. Are There Any Restrictions on the Use of the Federal Funds?

Yes. EPA grant funds can only be used for the purposes set forth in the grant agreement, and be consistent with the statutory authority for the award. Grant funds from this program cannot be used for matching funds for other federal grants, lobbying, or intervention in federal regulatory or adjudicatory proceedings. In addition, the recipient may not use these federal assistance funds to sue the federal government or any other government entity. Refer to 40 CFR 30.27, entitled “Allowable Costs”. The scope of environmental justice grants may not include construction, promotional items (e.g., T-shirts, buttons, hats), and furniture purchases.

III. Application Requirements

A. What Is Required for Applications?

Proposals from eligible organizations must have the following:

1. Application for Federal Assistance (SF 424) the official form is required for all federal grants that requests basic information about the grantee and the proposed project. The applicant must submit the original application, and one copy, signed by a person duly authorized by the governing board of the applicant. Please complete part 10 of the SF 424 form, “Catalog of Federal Domestic Assistance Number” with the following information: 66.604—Environmental Justice Small Grants Program.

2. The Federal Standard Form (SF 424A) and budget detail, which provides information on your budget. For the purposes of this grant program, complete only the non shaded areas of SF 424A. Budget figures/projections should support your work plan/narrative. The EPA portion of each grant will not exceed $15,000 for Multi-Media or $20,000 for Research projects. Therefore, your budget should reflect this limit on federal funds.

3. A narrative/work plan of the proposal is not to exceed five pages. A narrative/work plan describes the applicant's proposed project. The pages of the work plan must be letter size (8½ x 11 inches), with normal type size (12 characters per inch), and at least 1″ margins.

The narrative/work plan is one of the most important aspects of your application and (assuming that all other required materials are submitted) will be used as the primary basis for selection. Work plans must be submitted as follows;

a. A one page summary that includes the following:

• Identifies the environmental justice issue(s) to be addressed by the project;

• Identifies the Environmental Justice community/target audience;

• Identifies the environmental Statutes/Acts addressed by the project; and

• Identifies the program goal that the project will meet and how it will meet them.

b. A concise introduction that states the nature of the organization (i.e., how long it has been in existence, if it is incorporated, if it is a network, etc.), how the organization has been successful in the past, purposes of the project, the environmental justice community/target audience, projects completion plans/time frames, and expected results.

c. A concise project description that describes how the applicant is community-based and/or plans to involve the target audience in the project and how the applicant plans to meet at least two of the three program goals outlined in section IIB: “Environmental Justice Small Grants Program Goals.” Additional credit will not be given for projects that fulfill more than two goals.

d. A conclusion discussing how the applicant will evaluate and measure the success of the project, including the anticipated benefits and challenges in implementing the project.

4. An appendix with resumes of up to three key personnel who will be significantly involved in the project.

5. Letter(s) of commitment. If your proposed project includes the significant involvement of other community organizations, your application must include letters of commitment from these organizations.

6. Non-Profit Status. The applicant must provide documentation in evidence of the organization's non-profit status.

Applications that do not include the information listed above in items 1-4 and item 5, if applicable, will not be considered for an award.

Please mark any information in the proposal that you consider confidential. EPA will follow the procedures at 40 CFR part 2 if information marked confidential is requested from the Agency under the Freedom of Information Act.

Please note: Your application to this EPA program may be subject to your state's intergovernmental review process and/or the consultation requirements of section 204, Demonstration Cities and Metropolitan Development Act. See 40 CFR part 29 for details. Check with your state's Single Point of Contact to determine your requirements. Some states do not require this review. Applicants from American Samoa, Guam, Puerto Rico, and the U.S. Virgin Islands should also check with their Single Point of Contact. You may contact your EPA regional contact (listed below) or EPA Headquarters Grants Policy, Information and Training Branch at (202) 564-5325 for additional information. If your state does not have a single point of contact you must notify directly affected state, local and area wide agencies if your application is selected for an award. See 40 CFR 29.7(b). Federally recognized tribal governments are not required to comply with this procedure.

B. When and Where Must Applications Be Submitted?

The applicant must submit/mail one signed original application with required attachments and one copy to the primary contact at the EPA regional office listed below. The application must be delivered by close of business Wednesday, December 18, 2002 to your appropriate EPA regional office (listed below) or postmarked by the U.S. Postal Service midnight Wednesday, December 18, 2002. Forms and relevant background material are available at http://www.epa.gov/compliance/environmentaljustice/grants/.

Regional Contact Names and Addresses

Region 1: Connecticut, Maine, Massachusetts, New Hampshire, Rhode Island, Vermont

Primary Contact: Ronnie Harrington, (617) 918-1703, harrington.veronica@epa.gov, USEPA Region 1 (SAA), 1 Congress Street—11th Floor, Boston, MA 02203-0001.

Secondary Contact: Pat O'Leary, (617) 918-1978, oleary.pat@epa.gov.

Region 2: New Jersey, New York, Puerto Rico, U.S. Virgin Islands

Primary Contact: Terry Wesley, (212) 637-3576, wesley.terry@epa.gov, USEPA Region 2, 290 Broadway, 26th Floor, New York, NY 10007.

Secondary: Natalie Loney, (212) 637-3639, loney.natalie@epa.gov.

Region 3: Delaware, District of Columbia, Maryland, Pennsylvania, Virginia, West Virginia

Primary Contact: Reginald Harris, (215) 814-2988, harris.reggie@epa.gov, USEPA Region 3 (3DA00), 1650 Arch Street, Philadelphia, PA 19103-2029.

Region 4: Alabama, Florida, Georgia, Kentucky, Mississippi, North Carolina, South Carolina, Tennessee

Primary Contact: Gloria Love, (404) 562-9672, love.gloria@epa.gov, USEPA Region 4, 61 Forsyth Street, Atlanta, GA 30303-8960.

Secondary: Cynthia Peurifoy, (404) 562-9649, peurifoy.cynthia@epa.gov.

Region 5: Illinois, Indiana, Michigan, Minnesota, Ohio, Wisconsin

Primary Contact: Margaret Millard, (312) 353-1440, millard.margaret@epa.gov, USEPA Region 5 (T-165), 77 West Jackson Boulevard, Chicago, IL 60604-3507.

Secondary: Karla Owens, (312) 886-5993, owens.karla@epa.gov.

Region 6: Arkansas, Louisiana, New Mexico, Oklahoma, Texas

Primary Contact: Nelda Perez, (214) 665-2209, perez.nelda@epa.gov, USEPA Region 6, Fountain Place, 12th Floor, 1445 Ross Avenue (RA-D), Dallas, Texas 75202-2733.

Secondary Contact: Olivia Balandran, (214) 665-7257, balandran.olivia-r@epa.gov.

Region 7: Iowa, Kansas, Missouri, Nebraska

Primary Contact: Althea Moses, moses.althea@epa.gov. USEPA Region 7, 901 North 5th Street (ECORA), Kansas City, KS 66101.

Secondary: Monica Espinosa, (913) 551-7058, espinosa.monica@epa.gov.

Region 8: Colorado, Montana, North Dakota, South Dakota, Utah, Wyoming

Primary Contact: Nancy Reish, (303) 312-6040, reish.nancy@epa.gov, USEPA Region 8 (8ENF-EJ), 999 18th Street, Suite 300, Denver, CO 80202-2466.

Secondary: Jean Belille, (303) 312-6556, belille.jean@epa.gov.

Region 9: Arizona, California, Hawaii, Nevada, American Samoa, Guam

Primary Contact: Willard Chin, (415) 972-3797, chin.willard@epa.gov, USEPA Region 9 CMD-1, 75 Hawthorne Street, San Francisco, CA 94105.

Secondary: Rachael Loftin, (415) 972-3272, loftin.rachael@epa.gov.

Region 10: Alaska, Idaho, Oregon, Washington

Primary Contact: Cecilia A. Contreras, (206)-553-2899, contreras.cecilia@epa.gov, USEPA Region 10 (CEJ-163), 1200 Sixth Avenue, Seattle, WA 98101.

Secondary: Victoria Plata, (206) 553-8580, plata.victoria@epa.gov.

IV. Process for Awarding Grants

A. How Will Applications Be Reviewed?

The EPA regional offices will review, evaluate, and select grant recipients. Applications will be screened to ensure that they meet all eligible activities and requirements described in sections II and III. Applications will be disqualified if they do not meet these eligibility standards. Applications will also be evaluated by regional review panels based on the criteria outlined below.

1. Threshold Criteria

Applications that propose projects that are inconsistent with the EPA's statutory authority or the goals for the program are ineligible for funding and will not be evaluated and ranked. Regional offices will contact applicants whose proposals do not meet the threshold requirements to determine whether the proposal can be revised to meet the threshold requirements.

2. Evaluation Criteria

Proposals will be ranked using the following criteria:

a. Responsiveness of the Work plan to Environmental Justice issues affecting the community to be served (20 Points).

b. Effectiveness of the project design (40 Points).

c. Clarity of the Measures of Success (25 Points).

d. Qualifications of Project Staff (15 Points).

B. How Will the Final Selections Be Made?

After the individual projects are reviewed and ranked, the EPA regional officials will compare the best applications and make final selections. Additional factors that the EPA will take into account include geographic and socioeconomic balance, diverse nature of the projects, cost, and projects whose benefits can be sustained after the grant is completed. Regional Administrators will select the final grants.

Please note that this is a very competitive grant's program. Limited funding is available and many grant applications are expected to be received. Therefore, the Agency cannot fund all applications. If your project is not funded, a listing of other EPA grant programs may be found in the Catalog of Federal Domestic Assistance. This publication is available on the Internet at www.cfda.gov and at local libraries, colleges, or universities.

C. How Will Applicants Be Notified?

After all applications are received, the regional EPA offices will mail acknowledgments to applicants in their regions. Once applications have been recommended for funding, the EPA Regions will notify the finalists and request any additional information necessary to complete the award process. The finalists will be required to complete additional government application forms prior to receiving a grant, such as the EPA Form SF-424B (Assurances—Non-Construction Programs) and EPA Form 5700-48, the Certification Regarding Debarment, Suspension, and Other Responsibility Matters. The federal government requires all grantees to certify and assure that they will comply with all applicable federal laws, regulations, and requirements. The EPA Regional Environmental Justice Coordinators or their designees will notify those applicants whose projects are not selected for funding.

V. Expected Time-Frame for Reviewing and Awarding Grants

October 1, 2002—FY 2003 OEJ Small Grants Program Application Guidance is available and published in the Federal Register.

October 5, 2002 to December 18, 2002—Eligible grant recipients develop and complete their applications.

December 18, 2002—Applications must be delivered by close of business Wednesday, December 18, 2002 to your appropriate EPA regional office (listed in section III) or postmarked by U.S. Postal Service midnight Wednesday, December 18, 2002.

December 19, 2002 to February 28, 2003—EPA regional program officials review and evaluate applications and select grant finalists.

March 1, 2003 to July 30, 2003—Applicants will be contacted by the Region if their application is being considered for funding. Additional information may be required from the finalists, as indicated in section IV. The EPA regional grant offices process grants and make awards.

August 30, 2003—EPA expects to release the national announcement of the FY 2003 Environmental Justice Small Grant Recipients.

VI. Project Period and Final Reports

Activities must be completed and funds spent within the time frame specified in the grant award, one year. Project start dates will depend on the grant award date (most projects begin in August or September). The recipient organization is responsible for the successful completion of the project. The qualifications of the recipient's project manager is subject to approval by the EPA project officer. However, the EPA may not identify any particular person as the project manager. Unless specified in the award, all recipients must submit final reports for EPA approval within ninety (90) days of the end of the project period. Specific report requirements (e.g., Quarterly or Semi-annual Progress Reports, Final Technical Report and Financial Status Report) will be described in the award agreement. The EPA will collect, review, and disseminate grantees' final reports to serve as model programs.

For further information about this program, please visit the EPA's Web site at http://www.epa.gov/compliance/environmentaljustice/index.html or call our hotline at 1-800-962-6215 (available in Spanish).

VII. Fiscal Year 2004 Environmental Justice Small Grants Program

A. How Can I Receive Information on the Fiscal Year 2004 (October 1, 2003 to September 30, 2004) Environmental Justice Small Grants Program?

If you wish to be placed on the national mailing list to receive information on the FY 2004 Environmental Justice Small Grants Program, e-mail your request along with your name, organization, address, and phone number to lewis.sheila@epa.gov or mail your request along with your name, organization, address, and phone number to:

U.S. Environmental Protection Agency, Environmental Justice Small Grants Program (2201A), FY 2004 Grants Mailing List, Ariel Rios Building, 1200 Pennsylvania Avenue, NW., Washington, DC 20460. 1 (800) 962-6215.

If you wish to receive information on local Environmental Justice programs, you may mail or e-mail your request along with your name, organization, address, and phone number to the appropriate regional office listed on pages 9-11 of this application.

Thank you for your interest in our Small Grants Program.

Dated: September 20, 2002.
Linda K. Smith,
Acting Director, Office of Environmental Justice.

[FR Doc. 02-24643 Filed 9-26-02; 8:45 am]

BILLING CODE 6560-50-P